DEPARTMENT OF THE INTERIOR

Bureau of Indian Affairs

[145A21000DDAAK3000000/ADT00000.00000]

Salt River Pima-Maricopa Indian Community—Amendment to Alcoholic Beverage Control Ordinance

AGENCY: Bureau of Indian Affairs, Interior.

ACTION: Notice.

SUMMARY: This notice publishes the technical amendment to the Salt River Pima-Maricopa Indian Community Alcoholic Beverage Control Ordinance, Chapter 14, Salt River Pima-Maricopa Indian Community Code of Ordinances, to clarify the authority of the Community Regulatory Agency to share information with the Arizona Department of Safety and the Federal Bureau of Investigation for the purpose of conducting criminal background checks on liquor license applicants and holders. The amended Salt River Pima-Maricopa Indian Alcohol Beverage Control Ordinance, Chapter 14 of the Salt River Pima-Maricopa Indian Community Code of Ordinances was last published in the Federal Register on July 13, 2010 (75 FR 39960). Sections 14-5(c)(4), 14-9(g), 14-18(o) and (t) of the Salt River Pima-Maricopa Indian Community Code of Ordinances were repealed and replaced in their entirety, and a new Section 14-12, was added via publication in the Federal Register on July 24, 2013 (78 FR 44590). Section 14-5(b) of the Salt River Pima-Maricopa Indian Community Code of Ordinances shall be amended to include Section 14-5(b)(9).

DATES: This Amendment is effective 30 days after March 6, 2015.

FOR FURTHER INFORMATION CONTACT: Ms. Sharlot Johnson, Tribal Government Services Officer, Western Regional Office, Bureau of Indian Affairs, 2600 North Central Avenue, Phoenix, Arizona 85004, Phone: (602) 379-6786; Fax: (602) 379-4100; or Ms. Laurel Iron Cloud, Chief, Division of Tribal Government Services, Office of Indian Services, Bureau of Indian Affairs, 1849 C Street NW., MS-4513-MIB, Washington, DC 20240; Telephone (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Salt River Pima-Maricopa Indian Community adopted this amendment to the Salt River Pima-Maricopa Indian Alcohol Beverage Control Ordinance, Chapter 14 of the Salt River Pima-Maricopa Indian Community Code of Ordinances by Ordinance Number: SRO-439-2014 on March 5, 2014.

This notice is published in accordance with the authority delegated by the Secretary of the Interior to the Assistant Secretary—Indian Affairs. I certify that the Community Council duly adopted this amendment to the Salt River Pima-Maricopa Indian Alcohol Beverage Control Ordinance, Chapter 14 of the Salt River Pima-Maricopa Indian Community Code of Ordinances on March 5, 2014.

Dated: February 24, 2015.
Kevin K. Washburn,
Assistant Secretary—Indian Affairs.

The amendment to the Salt River Pima-Maricopa Indian Alcohol Beverage Control Ordinance, Chapter 14 of the Salt River Pima-Maricopa Indian Community Code of Ordinances reads as follows:

Section 14-5(b) of the Community Code of Ordinances shall be amended to include a clarifying provision at 14-5(b)(9) at the end of that subsection, which shall be enacted:

Sec. 14-5(b)(9)

(9) To conduct a state and federal criminal history check pursuant to Arizona Revised Statute 41-1750 and Public Law 92-544 on all applicants for a license under this Chapter; and that all applicants must submit a full set of fingerprints to the Office who shall submit the fingerprints to the Arizona Department of Public Safety, who may then exchange the fingerprint data with the Federal Bureau of Investigation.

[FR Doc. 2015-05206 Filed 3-5-15; 8:45 am]

BILLING CODE 4310-4J-P